ENVIRONMENTAL PROTECTION AGENCY

40 CFR Part 122

[EPA-HQ-OW-2009-1019; FRL-9916-33-OW]

RIN 2040-AC84

National Pollutant Discharge Elimination System (NPDES): Use of Sufficiently Sensitive Test Methods for Permit Applications and Reporting; Correction

AGENCY: Environmental Protection Agency.

ACTION: Final rule; correction.

SUMMARY: The Environmental Protection Agency (EPA) is correcting a final rule that appeared in the Federal Register of August 19, 2014 (79 FR 49001). The rule finalized minor amendments to its Clean Water Act (CWA) regulations to codify that under the National Pollutant Discharge Elimination System (NPDES) program, in general, permit applicants must use “sufficiently sensitive” analytical test methods when completing an NPDES permit application and the Director must prescribe that only “sufficiently sensitive” methods be used for analyses of pollutants or pollutant parameters under an NPDES permit.

DATES: Effective September 18, 2014.

FOR FURTHER INFORMATION CONTACT: For additional information, contact Kathryn Kelley, Water Permits Division, Office of Wastewater Management (4203M), Environmental Protection Agency, 1200 Pennsylvania Ave. NW., Washington, DC 20460; telephone number: (202) 564-7004, email address: kelley.kathryn@epa.gov.

SUPPLEMENTARY INFORMATION: EPA is correcting two citations that are contained within the text of two “Notes” in the final rule, as set forth below. Section 553(b)(B) of the Administrative Procedure Act, 5 U.S.C. 553(b)(B), provides that, when an agency for good cause finds that public notice and comment procedures are impracticable, unnecessary, or contrary to the public interest, the agency may issue a rule without providing notice and an opportunity for public comment. Here, EPA has determined that there is good cause for making this rule final without prior proposal and opportunity for comment because notice and opportunity for comment are unnecessary. The corrections being made in this rule are technical and very minor. These corrections concern two citations that were inadvertently stated incorrectly in the text of the final rule published on Aug. 19, 2014. The preamble to that rule makes clear that EPA intended the two Notes that contain these citations to discuss how method minimum levels (MLs) are determined under any of the subparagraphs to 122.21(e)(3)(i) or 122.44(i)(1)(iv)(A) (see 79 FR 49004-05 and 49010), which is the effect of today's corrections to these two citations. Accordingly, EPA does not believe that conducting a notice and comment process on today's corrections would inform the public of agency action that may be of interest.

Under Section 553(d) of the Administrative Procedure Act, publication of a rule must be made at least 30 days before its effective date, except where the agency provides otherwise for good cause. EPA finds that there is good cause for making this rule effective on September 18, 2014, which is less than 30 days after its publication. Waiting 30 days before making this rule effective is not necessary. Since these are only minor corrections to citations, we do not believe they will be of public interest (as discussed above) and the regulated community does not need 30 days to prepare to comply with them. At the same time, because the August 19, 2014 sufficiently sensitive methods rule becomes effective on September 18, 2014, making these minor corrections to that final rule effective on the same date will avoid any regulatory confusion that might occur from making them effective on a different date.

In FR Doc. 2014-19265 appearing on page 49001 in the Federal Register of Tuesday, August 19, 2014, the following corrections are made:

§ 122.21 [Corrected]

1. On page 49013, in the first column, in § 122.21 Application for a permit (applicable to State programs, see § 123.25), the note heading: “Note to paragraph (e)(3)(i)(C):” is corrected to read “Note to paragraph (e)(3)(i):”

§ 122.44 [Corrected]

2. On page 49013, in the second column, in § 122.44 Establishing limitations, standards, and other permit conditions (applicable to State NPDES program, see § 123.25), the note heading: “Note to paragraph (i)(1)(iv)(A)(2):” is corrected to read “Note to paragraph (i)(1)(iv)(A):”

Dated: September 12, 2014.
Gina McCarthy,
Administrator.

[FR Doc. 2014-22289 Filed 9-18-14; 8:45 am]

BILLING CODE 6560-50-P